DEPARTMENT OF LABOR

Employment and Training Administration

[TA-W-56,935 and TA-W-56,935A]

Mile High Textiles, L.L.C., Denver, CO and Shelby, NC; Notice of Termination of Investigation

Pursuant to Section 221 of the Trade Act of 1974, an investigation was initiated on April 11, 2005 in response to a worker petition which was filed by a company official on behalf of workers at Mile High Textiles, L.L.C., Denver, Colorado and Shelby, North Carolina.

The petitioner has requested that the petition be withdrawn. Consequently, the investigation has been terminated.

Signed in Washington, DC, this 18th day of April, 2005.
Richard Church,
Certifying Officer, Division of Trade Adjustment Assistance.

[FR Doc. E5-2124 Filed 5-2-05; 8:45 am]

BILLING CODE 4510-30-P